DEPARTMENT OF AGRICULTURE

Office of the Secretary

7 CFR Part 2

RIN 0503-AA63

Revision of Delegations of Authority

AGENCY: Office of the Secretary, USDA.

ACTION: Final rule.

SUMMARY: The Secretary of Agriculture is authorized to delegate functions, powers, and duties as the Secretary deems appropriate. This document amends the existing delegations of authority by adding and modifying certain delegations, as explained in the Supplementary Information section below.

DATES: Effective November 29, 2018.

FOR FURTHER INFORMATION CONTACT: Melissa McClellan, Office of the General Counsel, (202) 720-5565, melissa.mcclellan@usda.gov.

SUPPLEMENTARY INFORMATION: This rule makes several changes to the United States Department of Agriculture's (USDA) delegations of authority in 7 CFR part 2 by adding new delegations and modifying existing delegations.

Overview of Changes

A. Departmental Administration

Throughout part 2, this rule revises references to “Departmental Management” to read “Departmental Administration” to reflect the renaming of the former Departmental Management mission area, which reports to the Assistant Secretary for Administration. See Secretary's Memorandum (SM) 1076-022 (Feb. 2, 2018), available at https://www.ocio.usda.gov/sites/default/files/docs/2012/SM1076-22_DA_Reorg_20180202.pdf.

In addition, the rule revises the delegations in part 2 to reflect the reorganization of the former Office of Procurement and Property Management (OPPM). The Director of the new Office of Contracting and Procurement (OCP) will receive the delegations of authority related to contracting and procurement activities formerly delegated by the Assistant Secretary of Administration to the Director of OPPM. The delegations of authority concerning real and personal property, fleet, and materials management that were formerly delegated by the Assistant Secretary for Administration to the Director of OPPM are now delegated to the Director of the newly established Office of Property and Fleet Management.

The rule further revises the delegations of authority to the Chief Information Officer (CIO) and to the Director of the Office of the Executive Secretariat (OES) at § 2.97 to reflect that the authority to “Administer the Departmental records, forms, reports and Directives Management Programs” has been transferred from OCIO to OES.

Throughout part 2, this rule changes the name of the “Office of Homeland Security and Emergency Coordination” to the “Office of Homeland Security,” and makes changes to the delegations of authority to the Director of OHS, including transferring responsibility for USDA response efforts under the Oil Pollution Act of 1990 from OHS to the Office of Property and Fleet Management.

B. Mission Area Business Centers

Pursuant to Secretary's Memorandum 1076-018, this rule establishes new delegations of authority for the Chief Operating Officer of the Farm Production and Conservation (FPAC) Business Center to reflect the consolidation of management support functions for the agencies of the FPAC mission area. The rule also revokes certain delegations of authority to the Administrator of the Farm Service Agency (FSA) that have been transferred to the FPAC Business Center as part of this consolidation of functions.

Similarly, the rule establishes new delegations for the Chief Operating Officer of the Rural Development (RD) Business Center to reflect the consolidation of management support functions for the RD agencies, and revokes certain delegations of authority to the Administrators of the Rural Utilities Service (RUS), Rural Business-Cooperative Service (RBS), and Rural Housing Service (RHS) related to environmental laws that have been transferred to the RD Business Center. In addition, the rule revokes the published delegation of authority to the RHS Administrator to collect, service and liquidate RHS loans, and redelegates these loan servicing functions for the RHS single family housing loan programs to the RD Business Center. The Assistant to the Secretary for RD also may transfer loan servicing for other RHS programs (e.g., Multifamily Housing, Community Facilities) and for RUS and RBS to the RD Business Center in the future. To provide flexibility as the RD Business Center grows, the Assistant to the Secretary for RD will issue written delegations of authority for other RD loan servicing functions as necessary.

The management support functions for the agencies comprising the Research, Education, and Economics (REE) mission area have long been consolidated in an Administrative and Financial Management office organizationally located in the Agricultural Research Service (ARS). This rules updates the existing delegation to the Administrator of ARS to add information technology services to the management support services that the business center in ARS provides to all REE agencies on a reimbursable basis.

Similarly, the management support functions for the agencies in the Marketing and Regulatory Programs mission area have long been consolidated in a business center residing in the Animal and Plant Health Inspection Service (APHIS). This rule updates the existing delegation of authority to the Administrator of APHIS to add information technology services to the consolidated management support functions provided by APHIS to AMS on a reimbursable basis.

This rule further revises the delegations of authority to the Chief Information Officer to reflect that each mission area, rather than each agency, has one Chief Information Officer. See SM 1076-18 (Nov. 14, 2017), at https://www.ocio.usda.gov/sites/default/files/docs/2012/SM%201076-18.pdf.

C. Office of Partnerships and Public Engagement

The rule also revises the delegations to recognize the establishment of the Office of Partnerships and Public Engagement (OPPE), which now oversees the Office of Advocacy and Outreach (OAO), the Office of Tribal Relations (OTR), the Military Veterans Agricultural Liaison, the Center for Faith-Based and Neighborhood Partnerships, and certain youth and other public-facing initiatives of the Department. See SM 1076-018 (Nov. 14, 2017), available at https://www.ocio.usda.gov/document/secretarys-memorandum-1076-018. The rule revokes the obsolete delegations of authority by the Secretary to the ASA related to OAO and OTR. The delegations of authority to the Director of OAO and to the Director of OTR that were formerly published as delegations by the ASA are now located in a new subpart V as delegations by the Director of OPPE. The Director of OTR continues to advise the Secretary on matters of policy related to Indian tribes in accordance with 7 U.S.C. 6921, and to serve as the point of contact in accessing Department-wide information regarding tribal issues.

D. Grain Inspection, Packers and Stockyards Administration, U.S. Warehouse Act, and Commodity Procurement

This rule also revises the delegations of authority to reflect the elimination of the Grain Inspection, Packers, and Stockyards Administration (GIPSA) as a stand-alone agency, and the transfer of the former GIPSA delegations to the AMS Administrator. This rule further transfers to the AMS Administrator the responsibility to administer the U.S. Warehouse Act (7 U.S.C. 241-273), which was formerly delegated to the FSA Administrator. The rule further consolidates commodity procurement across the Department by transferring delegations related to international commodity procurement from the Under Secretary of FPAC and the FSA Administrator to the Under Secretary for Marketing and Regulatory Programs and the AMS Administrator. See SM 1076-018 (Nov. 14, 2017).

E. Office of Pest Management Policy

Pursuant to 7 U.S.C. 7653, the Office of Pest Management Policy (OPMP) represents the Department in fulfilling responsibilities related to management of pesticides under the Food Quality Protection Act of 1996, the Federal Insecticide, Fungicide, and Rodenticide Act, and the Federal Food, Drug and Cosmetic Act and other applicable laws, and leads and coordinates the Department's pest management and biotechnology efforts. Prior to the 2017 reorganization of the Department, OPMP was located in ARS, and there were no published delegations of authority to the OPMP Director. This rule reflects the realignment of OPMP within the Office of the Chief Economist (OCE), and establishes a new section of delegations by the Chief Economist to the Director of OPMP at § 2.75. In addition, the rule removes the outdated delegations to the Under Secretary for REE at § 2.21(a)(1)(iii), to the Administrator of ARS at § 2.65(a)(1), and to the Director of the National Institute of Food and Agriculture at § 2.66(a)(115). See SM 20176-018 (Nov. 14, 2017). The revocation of these authorities is intended solely to reflect the administrative relocation of OPMP from ARS to OCE, and does not affect the authority of the Under Secretary of REE, the ARS Administrator, or the NIFA Director to carry out their programs.

F. Office of Energy and Environmental Policy

This rule further revises the delegations of authority to reflect the realignment of the climate, environmental markets, and energy policy functions of OCE. The new position of Director of the Office of Energy and Environmental Policy (OEEP) will oversee the Office of Energy Policy and New Uses, the Office of Environmental Markets, and the Climate Change Program Office, and will coordinate policy analysis, long-range planning, research priority setting, and response strategies for addressing energy development and environmental policy. To effect this change, the delegations formerly located at § 2.74, related to the Climate Change Program Office, and at § 2.75, related to the Office of Environmental Markets, are now consolidated under the delegations of authority to the Director of OEEP at § 2.73.

G. Settlement Authority for Commitments That Cannot Be Ratified

This rule also revises the delegations to the Chief Financial Officer (CFO) by adding a new delegation to settle claims that are not otherwise provided for under 31 U.S.C. 3702(a) or another provision of law. Congress granted this claims settlement authority to the Director of the Office of Management and Budget in 31 U.S.C. 3702(a)(4), and the Director further delegated the authority to each Executive Branch agency. See Determination with Respect to Transfer of Functions Pursuant to Public Law 104-316, Office of Management and Budget (Dec. 17, 1996).

Pursuant to the new delegation at § 2.28(a)(30), the CFO now has the authority to resolve contract claims that are not ratifiable, including as described in the Federal Acquisition Regulation at 48 CFR 1.602-3(d).

H. Miscellaneous Revisions

This rules also makes the following miscellaneous revisions to the delegations. The authority to collect, summarize, and publish data on the production, distribution, and stocks of sugar is transferred from the Under Secretary for Marketing and Regulatory Programs and AMS Administrator to the Under Secretary for FPAC and FSA Administrator to reflect the current operation of these activities. The delegation of authority to the Under Secretary for FPAC related to defense and emergency preparedness is revised to eliminate references to “foreign agricultural intelligence and other foreign agricultural matters,” which are covered by an existing delegation to the Under Secretary for Trade and Foreign Agricultural Affairs. Finally, the delegations of authority to the Under Secretary for Marketing and Regulatory Programs and the Administrator of AMS have been revised to include updated citations to the Agricultural Marketing Act of 1946.

Classification

This rule relates to internal agency management. Accordingly, pursuant to 5 U.S.C. 553, notice of proposed rulemaking and opportunity for comment are not required, and this rule may be made effective less than 30 days after publication in the Federal Register. This rule also is exempt from the provisions of Executive Orders 12866 and 13771. This action is not a rule as defined by the Regulatory Flexibility Act, as amended by the Small Business Regulatory Enforcement Fairness Act of 1996, 5 U.S.C. 601 et seq., or the Congressional Review Act, 5 U.S.C. 801 et seq., and thus is exempt from the provisions of those acts. This rule contains no information collection or recordkeeping requirements under the Paperwork Reduction Act of 1995 (44 U.S.C. 3501 et seq.).

List of Subjects in 7 CFR Part 2

Authority delegations (Government agencies).

Accordingly, as discussed in the preamble, 7 CFR part 2 is amended as follows:

PART 2—DELEGATIONS OF AUTHORITY BY THE SECRETARY OF AGRICULTURE AND GENERAL OFFICERS OF THE DEPARTMENT

1. The authority citation for part 2 continues to read as follows:

Authority: 7 U.S.C. 6912(a)(1); 5 U.S.C. 301; Reorganization Plan No. 2 of 1953, 3 CFR 1949-1953 Comp., p. 1024.

2. In part 2, revise all references to “Departmental Management” to read “Departmental Administration,” and revise all references to “Office of Homeland Security and Emergency Coordination” to read “Office of Homeland Security”.

Subpart A—General

3. Section 2.4 is revised to read as follows:

§ 2.4 General officers.

The work of the Department is under the supervision and control of the Secretary who is assisted by the following general officers: The Deputy Secretary, the Under Secretary for Farm Production and Conservation; the Under Secretary for Food, Nutrition, and Consumer Services, the Under Secretary for Food Safety; the Under Secretary for Marketing and Regulatory Programs; the Under Secretary for Natural Resources and Environment; the Under Secretary for Research, Education, and Economics; the Under Secretary for Trade and Foreign Agricultural Affairs; the Assistant Secretary for Administration; the Assistant Secretary for Civil Rights; the Assistant Secretary for Congressional Relations; the Assistant to the Secretary for Rural Development; the Chief Economist; the Chief Financial Officer; the Chief Information Officer; the General Counsel; the Inspector General; the Judicial Officer; the Director, National Appeals Division; the Director, Office of Budget and Program Analysis; the Director, Office of Communications; the Director, Office of Partnerships and Public Engagement; the Director, Office of Tribal Relations; and the Director, Office of Small and Disadvantaged Business Utilization.

Subpart C—Delegations of Authority to the Deputy Secretary, Under Secretaries, and Assistant Secretaries

4. Amend § 2.16 by:

a. Removing and reserving paragraphs (a)(1),(iv), and (xvi);

b. Adding paragraph (a)(1)(xvii);

c. Revising the reference to “Assistant Secretary for Administration” to read “Director, Office of Partnerships and Public Engagement” in paragraphs (a)(1)(xxviii) and (xxxiii); and

d. Revising paragraphs (a)(3)(iv)(G) and (a)(6)(i).

The addition and revisions read as follows:

§ 2.16 Under Secretary for Farm Production and Conservation.

(a) * * *

(1) * * *

(xvii) Collect, summarize, and publish data on the production, distribution, and stocks of sugar.

* * * * *

(3) * * *

(iv) * * *

(G) The Emergency Conservation Program and the Emergency Watershed Protection Program under sections 401-405 of the Agricultural Credit Act of 1978, 16 U.S.C. 2201-2205.

* * * * *

(6) * * *

(i) Administer responsibilities and functions assigned under the Defense Production Act of 1950 (50 U.S.C. App. 2061 et seq.), and title VI of the Robert T. Stafford Disaster Relief and Emergency Assistance Act (42 U.S.C. 5195 et seq.), concerning agricultural production; food processing, storage, and distribution; distribution of farm equipment and fertilizer; rehabilitation and use of food, agricultural, and related agribusiness facilities; CCC resources; and farm credit and financial assistance.

* * * * *

§ 2.17 [Amended]

5. Amend § 2.17 by revising the references to “Assistant Secretary for Administration” to read “Director, Office of Partnerships and Public Engagement” in paragraphs (a)(20)(xi), (a)(21)(xxv), and (a)(22)(viii).

§ 2.21 [Amended]

6. Amend § 2.21 by removing and reserving paragraph (a)(1)(iii).

7. Amend § 2.22 by:

a. Revising paragraphs (a)(1)(i) and (a)(1)(viii)(X);

b. Removing and reserving paragraphs (a)(1)(viii)(CC) and (a)(1)(x); and

c. Adding paragraphs (a)(1)(xiv),(xv), and (xvi).

The revisions and additions read as follows:

§ 2.22 Under Secretary for Marketing and Regulatory Programs.

(a) * * *

(1) * * *

(i) Exercise the functions of the Secretary of Agriculture contained in the Agricultural Marketing Act of 1946, as amended (7 U.S.C. 1621 et seq.), including payments to State Departments of Agriculture in connection with cooperative marketing service projects under section 204(b) (7 U.S.C. 1623(b)), but excepting matters otherwise assigned.

* * * * *

(viii) * * *

(X) Beef Research and Information Act, as amended (7 U.S.C. 2901-2918), except as delegated to the Under Secretary for Trade and Foreign Agricultural Affairs in §§ 2.26(a)(1)(xiv) and (a)(3)(x);

* * * * *

(xiv) Administer the U.S. Warehouse Act, as amended (7 U.S.C. 241-273), and perform compliance examinations for Agricultural Marketing Services programs.

(xv) Administer commodity procurement and supply, transportation (other than from point of export, except for movement to trust territories or possessions), handling, payment, and related services in connection with programs under titles II and III of Public Law 480 (7 U.S.C. 1691, 1701, et seq.) and section 3107 of the Farm Security and Rural Investment Act of 2002 (7 U.S.C. 1736o-1), and payment and related services with respect to export programs and barter operations.

* * * * *

8. Amend § 2.24 by removing and reserving paragraphs (a)(7), (a)(8)(ii)(F) and (I), revising paragraph (a)(8)(iii), and removing and reserving paragraph (a)(8)(vii).

The revision reads as follows:

§ 2.24 Assistant Secretary for Administration.

(a) * * *

(8) * * *

(iii) Administer the Classified Network, Controlled Unclassified Information, and Insider Threat programs of the Department (E.O. 13587; E.O. 13556 and 32 CFR part 2002).

* * * * *

Subpart D—Delegations of Authority to Other General Officers and Agency Heads

9. Amend § 2.28 by:

a. In paragraph (a)(27), removing the term “Office of Procurement and Property Management” and adding in its place the term “Office of Contracting and Procurement”; and

b. Adding paragraph (a)(30).

The addition reads as follows:

§ 2.28 Chief Financial Officer.

(a) * * *

(30) Settle claims not otherwise provided for under 31 U.S.C. 3702(a) or another provision of law.

* * * * *

10. Amend § 2.29 by adding paragraph (a)(16) to read as follows:

§ 2.29 Chief Economist.

(a) * * *

(16) Related to Pest Management and Policy. Coordinate USDA policy relative to the Federal Insecticide, Fungicide, and Rodenticide Act, as amended (7 U.S.C. 136 et seq.) and coordinate the Department's Integrated Pest Management Programs and the Pesticide Assessment Program (7 U.S.C.136-136y) (7 U.S.C. 7653).

* * * * *

11. Revise § 2.38 to read as follows:

§ 2.38 Director, Office of Partnerships and Public Engagement.

(a) Delegations. The following delegations of authority are made by the Secretary of Agriculture to the Director, Office of Partnerships and Public Engagement:

(1) Related to Advocacy and Outreach:

(i) Ensure that small farms and ranches, beginning farmers or ranchers, and socially disadvantaged farmers or ranchers have access to, and equitable participation in, programs and services of the Department pursuant to section 226B(c) of the Department of Agriculture Reorganization Act of 1994 (7 U.S.C. 6934(c)).

(ii) Oversee the Advisory Committee for Beginning Farmers and Ranchers.

(iii) Oversee the operations of the Office of Small Farms Coordination.

(iv) Administer section 2501 of the Food, Agriculture, Conservation, and Trade Act of 1990 (7 U.S.C. 2279), except for authorities related to the Census of Agriculture and economic studies in subsection (h) of that section.

(v) Oversee the Minority Farmer Advisory Committee pursuant to section 14008 of FCEA (7 U.S.C. 2279 note).

(vi) Administer the low-income migrant and seasonal farmworker grants program under section 2281 of the Food, Agriculture, Conservation, and Trade Act of 1990 (42 U.S.C. 5177a).

(vii) Consult with appropriate entities regarding integration of farmworker interests into Department programs, including assisting farmworkers in becoming agricultural producers or landowners, and research, program improvements, and agricultural education opportunities for low-income and migrant seasonal farmworkers.

(viii) Administer the grants program under section 14204 of FCEA (7 U.S.C. 2008q-1) to improve the supply, stability, safety, and training of the agricultural labor force.

(ix) Administer and coordinate a USDA outreach program in collaboration with USDA agencies.

(x) Administer section 2501A of the Food, Agriculture, Conservation, and Trade Act of 1990 (7 U.S.C. 2279-1), including the authority to coordinate Department policy for the issuance of receipts under subsection (e) of that section.

(xi) Provide strategic planning and performance measurement, coordinate outreach activities, monitor goals and objectives, and evaluate programs, of Department programs and activities involving small farms or ranches and beginning or socially disadvantaged farmers or ranchers.

(xii) Administer the USDA/1994 Land Grant Institutions (Tribal Colleges) Programs.

(xiii) Administer the USDA/1890 Liaison Officer Program.

(xiv) Administer the Hispanic Serving Institutions National Program, including through the use of cooperative agreements under 7 U.S.C. 3318(b).

(xv) Serve as a lead agency in carrying out student internship programs (7 U.S.C. 2279c).

(xvi) Coordinate outreach to Asian Americans and Pacific Islanders.

(2) Related to Indian tribes:

(i) Serve as the Department's primary point of contact for tribal issues.

(ii) Advise the Secretary on policies related to Indian tribes.

(iii) Serve as the official with principal responsibility for the implementation of Executive Order 13175, “Consultation and Coordination with Indian Tribal Governments,” including the provision of Department-wide guidance and oversight regarding tribal consultation, coordination, and collaboration.

(iv) Coordinate the Department's programs involving assistance to American Indians and Alaska Natives.

(v) Enter into cooperative agreements to improve the coordination and effectiveness of Federal programs, services, and actions affecting rural areas (7 U.S.C. 2204b(b)(4)); and to provide outreach and technical assistance to socially disadvantaged farmers and ranchers and veteran farmers and ranchers (7 U.S.C. 2279(a)(3)).

(3) Oversee the Military Veterans Agricultural Liaison (7 U.S.C. 6919).

(4) Oversee the Center for Faith-Based and Neighborhood Partnerships.

(5) Oversee the Women in Agriculture Initiative.

(6) With the exception of competitive grant programs administered by the National Institute of Food and Agriculture, or any youth employment opportunity programs such as Pathways or Job Corp, serve as the Department lead for strategic planning and coordinating youth outreach activities of USDA agencies' programs (including, but not limited to, 4-H; Science, Technology, Engineering and Math (STEM) programs; information and cyber technology student programs, Future Farmers of America (FFA) activities; summer high school internships; and youth gardening programs); development of program evaluation metrics and consistent messaging for youth outreach activities; and monitoring goals and objectives.

(b) [Reserved]

Subpart F—Delegations of Authority by the Under Secretary for Farm Production and Conservation

12. Add § 2.41 to read as follows:

§ 2.41 Chief Operating Officer, Farm Production and Conservation Business Center.

(a) Delegations. Pursuant to § 2.16(a), subject to the reservations in § 2.16(b)(1), the following delegations of authority are made by the Under Secretary for Farm Production and Conservation to the Chief Operating Officer, Farm Production and Conservation Programs Business Center:

(1) Provide to the Farm Service Agency, Natural Resources Conservation Service, and Risk Management Agency management support services including information technology, financial management, human resources, procurement, property management, and related business and administrative processes.

(2) Administer responsibilities and functions assigned under the Defense Production Act of 1950 (50 U.S.C. App. 2061 et seq.), and title VI of the Robert T. Stafford Disaster Relief and Emergency Assistance Act (42 U.S.C. 5195 et seq.), concerning agricultural production; food processing, storage, and distribution; distribution of farm equipment and fertilizer; rehabilitation and use of food, agricultural, and related agribusiness facilities; CCC resources; and farm credit and financial assistance.

(3) Conduct fiscal, accounting and claims functions relating to CCC programs for which the Foreign Agricultural Service has been delegated authority under § 2.601 and, in conjunction with other agencies of the U.S. Government, develop and formulate agreements to reschedule amounts due from foreign countries.

(4) Administer Section 15353(a) of the Food, Conservation, and Energy Act of 2008, Public Law 110-246 relating to information reporting for Commodity Credit Corporation transactions.

(5) Coordinate and prevent duplication of aerial photographic work of the Department, including:

(i) Clearing photography projects;

(ii) Assigning symbols for new aerial photography, maintaining symbol records, and furnishing symbol books;

(iii) Recording departmental aerial photography flow and coordinating the issuance of aerial photography status maps of latest coverage;

(iv) Promoting interchange of technical information and techniques to develop lower costs and better quality;

(v) Representing the Department on committees, task forces, work groups, and other similar groups concerned with aerial photography acquisition and reproduction;

(vi) Providing a Chairperson for the Photography Sales Committee of the Department;

(vii) Coordinating development, preparation, and issuance of specifications for aerial photography for the Department;

(viii) Coordinating and performing procurement, inspection, and application of specifications for USDA aerial photography;

(ix) Maintaining library and files of USDA aerial film and retrieving and supplying reproductions on request.

(b) [Reserved]

13. Amend § 2.42 by:

a. Removing and reserving paragraphs (a)(3) and (4), (a)(5)(i), and (a)(7), (12), and (18);

b. Adding paragraph (a)(19); and

c. Removing and reserving paragraph (a)(56)(ix).

The addition reads as follows:

§ 2.42 Administrator, Farm Service Agency.

(a) * * *

(19) Collect, summarize, and publish data on the production, distribution, and stocks of sugar.

* * * * *

Subpart G—Delegations of Authority by the Assistant to the Secretary for Rural Development

14. Add § 2.46, to read as follows:

§ 2.46 Chief Operating Officer, Rural Development Business Center.

(a) Delegations. Pursuant to § 2.17(a), subject to the reservations in § 2.17(b), the following delegations of authority are made by the Assistant to the Secretary for Rural Development to the Chief Operating Officer, Rural Development Business Center: (1) Provide to the Rural Utilities Service, Rural Housing Service, and Rural Business-Cooperative Service management support services including information technology, financial management, human resources, procurement, property management, and related business and administrative processes.

(2) With respect to land and facilities under the authority of the Assistant to the Secretary for Rural Development, exercise the functions delegated to the Secretary by Executive Order 12580, 3 CFR, 1987 Comp., p. 193, under the following provisions of the Comprehensive Environmental Response, Compensation, and Liability Act of 1980 (“the Act”), as amended:

(i) Sections 104(a), (b), and (c)(4) of the Act (42 U.S.C. 9604(a), (b), and (c)(4)), with respect to removal and remedial actions in the event of release or threatened release of a hazardous substance, pollutant, or contaminant into the environment;

(ii) Sections 104(e)-(h) of the Act (42 U.S.C. 9604(e)-(h)), with respect to information gathering and access requests and orders; compliance with Federal health and safety standards and wage and labor standards applicable to covered work; and emergency procurement powers;

(iii) Section 104(i)(11) of the Act (42 U.S.C. 9604(i)(11)), with respect to the reduction of exposure to significant risk to human health;

(iv) Section 104(j) of the Act (42 U.S.C. 9604(j)), with respect to the acquisition of real property and interests in real property required to conduct a remedial action;

(v) The first two sentences of section 105(d) of the Act (42 U.S.C. 9605(d)), with respect to petitions for preliminary assessment of a release or threatened release;

(vi) Section 105(f) of the Act (42 U.S.C. 9605(f)), with respect to consideration of the availability of qualified minority firms in awarding contracts, but excluding that portion of section 105(f) pertaining to the annual report to Congress;

(vii) Section 109 of the Act (42 U.S.C. 9609), with respect to the assessment of civil penalties for violations of section 122 of the Act (42 U.S.C. 9622), and the granting of awards to individuals providing information;

(viii) Section 111(f) of the Act (42 U.S.C. 9611(f)), with respect to the designation of officials who may obligate money in the Hazardous Substances Superfund;

(ix) Section 113(k) of the Act (42 U.S.C. 9613(k)), with respect to establishing an administrative record upon which to base the selection of a response action and identifying and notifying potentially responsible parties;

(x) Section 116(a) of the Act (42 U.S.C. 9616(a)), with respect to preliminary assessment and site inspection of facilities;

(xi) Sections 117(a) and (c) of the Act (42 U.S.C. 9617(a) and (c)), with respect to public participation in the preparation of any plan for remedial action and explanation of variances from the final remedial action plan for any remedial action or enforcement action, including any settlement or consent decree entered into;

(xii) Section 119 of the Act (42 U.S.C. 9119), with respect to indemnifying response action contractors;

(xiii) Section 121 of the Act (42 U.S.C. 9621), with respect to cleanup standards; and

(xiv) Section 122 of the Act (42 U.S.C. 9622), with respect to settlements, but excluding section 122(b)(1) of the Act (42 U.S.C. 9622(b)(1)), related to mixed funding agreements.

(3) With respect to facilities and activities under the authority of the Assistant to the Secretary for Rural Development, exercise the authority of the Secretary of Agriculture pursuant to section 1-102 related to compliance with applicable pollution control standards and section 1-601 of Executive Order 12088, 3 CFR, 1978 Comp., p. 243, to enter into an inter-agency agreement with the United States Environmental Protection Agency, or an administrative consent order or a consent judgment in an appropriate State, interstate, or local agency, containing a plan and schedule to achieve and maintain compliance with applicable pollution control standards established pursuant to the following:

(i) Solid Waste Disposal Act, as amended by the Resource Conservation and Recovery Act, as further amended by the Hazardous and Solid Waste Amendments, and the Federal Facility Compliance Act (42 U.S.C. 6901 et seq.);

(ii) Federal Water Pollution Prevention and Control Act, as amended (33 U.S.C. 1251 et seq.);

(iii) Safe Drinking Water Act, as amended (42 U.S.C. 300f et seq.);

(iv) Clean Air Act, as amended (42 U.S.C. 7401 et seq.);

(v) Noise Control Act of 1972, as amended (42 U.S.C. 4901 et seq.);

(vi) Toxic Substances Control Act, as amended (15 U.S.C. 2601 et seq.);

(vii) Federal Insecticide, Fungicide, and Rodenticide Act, as amended (7 U.S.C. 136 et seq.); and

(viii) Comprehensive Environmental Response, Compensation, and Liability Act of 1980, as amended by the Superfund Amendments and Reauthorization Act of 1986 (42 U.S.C. 9601 et seq.).

(4) Collect, service, and liquidate single family housing loans made, insured, or guaranteed by the Rural Housing Service.

(b) [Reserved.]

§ 2.47 [Amended]

15. Amend § 2.47 by removing and reserving paragraphs (a)(11) and (12).

§ 2.48 [Amended]

16. Amend § 2.48 by removing and reserving paragraphs (a)(17) and (18).

§ 2.49 [Amended]

17. Amend § 2.49 by removing and reserving paragraphs (a)(5), (9), and (10).

Subpart K—Delegations of Authority by the Under Secretary for Research, Education, and Economics

18. Amend § 2.65 by removing and reserving paragraph (a)(1) and revising the second sentence in paragraph (a)(59).

The revision reads as follows:

§ 2.65 Administrator, Agricultural Research Service.

(a) * * *

(59) * * * As used herein, the term management support services includes budget, finance, personnel, information technology, procurement, property management, communications, paperwork management, and related administrative services.

* * * * *

§ 2.66 [Amended]

19. Amend § 2.66 by removing and reserving paragraph (a)(115).

Subpart L—Delegations of Authority by the Chief Economist

20. Amend § 2.73 by revising the section heading and paragraph (a) introductory text and adding paragraphs (a)(10) and (11) to read as follows:

§ 2.73 Director, Office of Energy and Environmental Policy.

(a) Delegations. Pursuant to § 2.29(a)(11) through (13) the following delegations of authority are made by the Chief Economist to the Director, Office of Energy and Environmental Policy.

* * * * *

(10) Related to global climate change. (i) Coordinate policy analysis, long-range planning, research, and response strategies relating to climate change issues.

(ii) Provide liaison with other Federal agencies, through the Office of Science and Technology Policy, regarding climate change issues.

(iii) Inform the Department of scientific developments and policy issues relating to the effects of climate change on agriculture and forestry, including broader issues that affect the impact of climate change on the farms and forests of the United States.

(iv) Recommend to the Chief Economist alternative courses of action with which to respond to such scientific developments and policy issues.

(v) Ensure that recognition of the potential for climate change is fully integrated into the research, planning, and decisionmaking processes of the Department.

(vi) Coordinate global climate change studies.

(vii) Coordinate the participation of the Department in interagency climate-related activities.

(viii) Consult with the National Academy of Sciences and private, academic, State, and local groups with respect to climate research and related activities.

(ix) Represent the Department to the Office of Science and Technology Policy on issues related to climate change.

(x) Represent the Department on the Intergovernmental Panel on Climate Change.

(xi) Review all Department budget items relating to climate change issues, including specifically the research budget to be submitted by the Secretary to the Office of Management and Budget.

(11) Related to environmental markets. Coordinate implementation of section 1245 of the Food Security Act of 1985 regarding environmental services markets (16 U.S.C. 3845).

* * * * *

§ 2.74 [Removed and Reserved]

21. Remove and reserve § 2.74.

22. Revise § 2.75 to read as follows:

§ 2.75 Director, Office of Pest Management Policy.

(a) Delegations. Pursuant to § 2.29(a)(16), the following delegations of authority are made by the Chief Economist to the Director, Office of Pest Management Policy:

(1) Coordinate USDA policy relative to the Federal Insecticide, Fungicide, and Rodenticide Act, as amended (7 U.S.C. 136, et seq.) and coordinate the Department's Integrated Pest Management Programs and the Pesticide Assessment Program (7 U.S.C. 136-136y) (7 U.S.C. 7653).

(2) [Reserved]

(b) [Reserved]

Subpart N—Delegations of Authority by the Under Secretary for Marketing and Regulatory Programs

20. Amend § 2.79 by:

a. Revising paragraph (a)(1);

b. Removing and reserving paragraphs (a)(8)(xxxvii) and (10); and

c. Adding paragraphs (a)(16) through (22).

The revision and additions read as follows:

§ 2.79 Administrator, Agricultural Marketing Service.

(a) * * *

(1) Exercise the functions of the Secretary of Agriculture contained in the Agricultural Marketing Act of 1946, as amended (7 U.S.C. 1621 et seq.), including payments to State Departments of Agriculture in connection with cooperative marketing service projects under section 204(b) (7 U.S.C. 1623(b)), but excepting matters otherwise assigned.

* * * * *

(16) Administer the United States Grain Standards Act, as amended (7 U.S.C. 71-87h).

(17) Administer the Packers and Stockyards Act, 1921, as amended and supplemented.

(18) Enforce provisions of the Consumer Credit Protection Act (15 U.S.C. 1601-1665, 1681-1681t), with respect to any activities subject to the Packers and Stockyards Act, 1921, as amended and supplemented.

(19) Exercise the functions of the Secretary of Agriculture contained in section 1324 of the Food Security Act of 1985 (7 U.S.C. 1631).

(20) Administer responsibilities and functions assigned to the Secretary in section 11006 of the Food, Conservation, and Energy Act of 2008 (7 U.S.C. 228 note), with respect to the Packers and Stockyards Act, 1921.

(21) Administer the U. S. Warehouse Act, as amended (7 U.S.C. 241-273), and perform compliance examinations for Agricultural Marketing Services programs.

(22) Administer commodity procurement and supply, transportation (other than from point of export, except for movement to trust territories or possessions), handling, payment, and related services in connection with programs under titles II and III of Public Law 480 (7 U.S.C. 1691, 1701, et seq.) and section 3107 of the Farm Security and Rural Investment Act of 2002 (7 U.S.C. 1736o-1), and payment and related services with respect to export programs and barter operations.

* * * * *

21. Amend § 2.80 by revising paragraph (a)(24) to read as follows:

§ 2.80 Administrator, Animal and Plant Health Inspection Service.

(a) * * *

(24) Provide management support services for the Agricultural Marketing Service, as agreed upon by the agencies, with authority to take actions required by law or regulation. As used herein, the term management support services includes information technology, budget, finance, personnel, procurement, property management, communications, paperwork management, and related administrative services.

* * * * *

§ 2.81 [Removed and Reserved]

22. Remove and reserve § 2.81.

Subpart P—Delegations of Authority by the Assistant Secretary for Administration

§ 2.89 [Amended]

23. Amend § 2.89 by:

a. Removing and reserving paragraph (a)(11)(xi);

b. Removing the term “agency” and adding in its place the term “mission area” in paragraphs (a)(12)(ii) and (iii);

c. Removing the term “Agency Heads” and adding in its place the term “mission area heads” in paragraph (a)(12)(iv); and

d. Removing the term “agencies” and adding in its place the term “mission areas” in paragraph (a)(12)(vi).

24. Add § 2.90 to read as follows:

§ 2.90 Director, Office of Property and Fleet Management.

(a) Delegations. Pursuant to § 2.24(a)(6) of this chapter, and with due deference for delegations to other Departmental Administration officials, the following delegations of authority are made by the Assistant Secretary for Administration to the Director, Office of Property and Fleet Management:

(1) Promulgate policies, standards, techniques, and procedures, and represent the Department, in the following:

(i) Utilization, value analysis, construction, maintenance, and disposition of real and personal property, including control of space assignments.

(ii) Motor vehicle and aircraft fleet and other vehicular transportation.

(iii) Transportation of things (traffic management).

(iv) Prevention, control, and abatement of pollution with respect to Federal facilities and activities under the control of the Department (Executive Order 12088, “Federal Compliance With Pollution Control Standards,” 3 CFR, 1978 Comp., p. 243).

(v) Development and implementation of sustainable operations actions including establishing and achieving greenhouse gas emission reduction goals, reducing energy intensity, increasing renewable energy use, increasing water efficiency, reducing petroleum use and increasing alternative fuel use, increasing recycling and waste diversion, preventing pollution, reducing use of toxic chemicals, procuring sustainable products and services, achieving sustainable principles for new and existing buildings, promoting electronic stewardship, and continuing environmental management system use. Maintain liaison with the Office of the Federal Environmental Executive, the Council on Environmental Quality, the Office of Management and Budget (OMB), the Department of Energy, and other Government agencies in these matters.

(vi) Implementation of a program for the Federal procurement of biobased products and of a voluntary “USDA Certified Biobased product” labeling program (7 U.S.C. 8102).

(vii) Entering into cooperative agreements to further research programs in the food and agricultural sciences, related to establishing and implementing Federal biobased procurement and voluntary biobased labeling programs (7 U.S.C. 3318).

(2) Exercise the following special authorities:

(i) Maintain custody and permit appropriate use of the official seal of the Department.

(ii) Establish policy for the use of the official flags of the Secretary and the Department.

(iii) Coordinate collection and disposition of personal property of historical significance.

(iv) Make information returns to the Internal Revenue Service as prescribed by 26 U.S.C. 6050M and by 26 CFR 1.6050M-1 and such other Treasury regulations, guidelines or procedures as may be issued by the Internal Revenue Service in accordance with 26 U.S.C. 6050M. This includes making such verifications or certifications as may be required by 26 CFR 1.6050M-1 and making the election allowed by 26 CFR 1.6050M-1(d)(5)(1).

(v) Represent the Department in working with the Government Accountability Office (GAO), the General Services Administration, OMB, and other organizations or agencies on matters related to assigned responsibilities.

(vi) Redelegate, as appropriate, the authority in paragraphs (a)(4) and (a)(6) of this section to agency Property Officials or other qualified agency officials with no power of further redelegation.

(3) Transfer excess research equipment to eligible educational institutions or certain non-profit organizations for the conduct of technical and scientific education and research activities under section 11(i) of the Stevenson-Wydler Technology Innovation Act of 1980 (15 U.S.C. 3710(i)) (7 CFR part 2812).

(4) Promulgate policy and obtain and furnish Federal excess personal property in accordance with section 923 of Public Law 104-127 (7 U.S.C. 2206a), to support research, educational, technical and scientific activities or for related programs, to:

(i) Any 1994 Institutions (as defined in section 532 of the Equity in Educational Land-Grant Status Act of 1994 (Pub. L. 103-382; 7 U.S.C. 301 note)).

(ii) Any Institutions eligible to receive funds under the Act of August 30, 1890 (7 U.S.C. 321, et seq.) including Tuskegee University.

(iii) Any Hispanic-serving Institutions (as defined in section 316(b) of the Higher Education Act of 1965 (20 U.S.C. 1059c(b)).

(5) Make available to organizations excess or surplus computers or other technical equipment of the Department for the purpose of distribution to cities, towns, or local government entities in rural areas (7 U.S.C. 2206b).

(6) Issue regulations and directives to implement or supplement the Federal Property Management Regulations (41 CFR chapter 101) and the Federal Management Regulation (41 CFR chapter 102).

(7) Related to compliance with environmental laws and sustainable operating requirements.

(i) Serve as Departmental Administration Member and Executive Secretary of the USDA Sustainable Operations Council.

(ii) Represent USDA in consulting or working with the EPA, the Council on Environmental Quality, the Domestic Policy Council, and others to develop policies relating to hazardous materials management and Federal facilities compliance with applicable pollution control laws.

(iii) Monitor, review, evaluate, and oversee hazardous materials management program activities and compliance Department-wide.

(iv) Monitor, review, evaluate, and oversee USDA agency expenditures for hazardous materials management program accomplishments.

(v) Represent USDA on the National Response Team and exercise responsibility for USDA response efforts for hazardous substance releases and oil spills pursuant to the Comprehensive Environmental Response, Compensation, and Liability Act of 1980, as amended (42 U.S.C. 9601, et seq.); the Clean Water Act, as amended (33 U.S.C. 1251, et seq.); Oil Pollution Act, as amended (33 U.S.C. 2701, et seq.); Executive Order 12580, “Superfund Implementation,” 3 CFR, 1987 Comp., p. 193; Executive Order 12777, “Implementation of section 311 of the Federal Water Pollution Control Act of October 18, 1972, as amended, and the Oil Pollution Act of 1990,” 3 CFR, 1991 Comp., p. 351, and the National Oil and Hazardous Substances Contingency Plan, 40 CFR part 300. When a spill of national significance is declared under the Oil Pollution Act of 1990, responsibility for USDA response efforts will transfer to the Office of Homeland Security and Emergency Coordination, as determined by the Assistant Secretary for Administration.

(vi) Approve disbursements from the New World Mine Response and Restoration Account, approve the New World Mine Response and Restoration Plan, and make quarterly reports to Congress under Sections 502(d) and (f) of Title V of the Department of the Interior and Related Agencies Appropriations Act of 1998, Public Law 105-83.

(vii) Ensure that the Hazardous Materials Management Program Department-wide is accomplished with regard to, and in compliance with, Executive Order 12898, “Federal Actions to Address Environmental Justice in Minority Populations and Low-Income Populations,” 3 CFR, 1994 Comp., p. 859.

(viii) Take such action as may be necessary, with the affected agency head and with the concurrence of the General Counsel, including issuance of administrative orders and agreements with any person to perform any response action under sections 106(a) and 122 (except subsection (b)(1)) of the Comprehensive Environmental Response, Compensation, and Liability Act of 1980, as amended (42 U.S.C. 9606(a), 9622), pursuant to sections 4(c)(3) and 4(d)(3) of Executive Order 12580, “Superfund Implementation,” 3 CFR, 1987 Comp., p. 193, as amended by Executive Order 13016, “Amendment to Executive Order No. 12580,” 3 CFR, 1996 Comp., p. 214.

(ix) Represent USDA on the EPA Brownfields Federal Partnership and coordinate USDA support for Brownfields redevelopment and establish policy and guidance for the implementation of the June 2003 amendment to Executive Order 12580, “Superfund Implementation,” 3 CFR, 1987 Comp., p. 193 (Executive Order 13308, “Further Amendment to Executive Order 12580, As Amended, Superfund Implementation,” 3 CFR, 2003 Comp., p. 239).

(8) Exercise responsibility for USDA response efforts when a spill of national significance is declared under the Oil Pollution Act of 1990, as determined by the Assistant Secretary for Administration.

(b) [Reserved]

25. Amend § 2.91 by revising paragraph (a)(21) and adding paragraph (a)(22) to read as follows:

§ 2.91 Director, Office of Human Resources Management.

(a) * * *

(21) Related to occupational safety and health:

(i) Establish Departmentwide safety and health policy and provide leadership in the development, coordination, and implementation of related standards, techniques, and procedures, and represent the Department in complying with laws, Executive Orders and other policy and procedural issuances and related to occupational safety and health and workers' compensation programs within the Department.

(ii) Represent the Department in all rulemaking, advisory, or legislative capacities on any groups, committees, or Governmentwide activities that affect the USDA Occupational Safety and Health Management Program.

(iii) Determine and provide Departmentwide technical services and regional staff support for the safety and health programs.

(iv) Administer the computerized management information systems for the collection, processing, and dissemination of data related to the Department's occupational safety and health programs.

(v) Administer the Department's Occupational Health and Preventive Medicine Program, as well as design and operate employee assistance and workers' compensation activities.

(vi) Provide education and training on a Departmentwide basis for safety and health-related issues and develop resource and operational manuals.

(22) Redelegate, as appropriate, any authority delegated under paragraphs (a)(1) through (21) of this section to general officers of the Department and heads of Departmental agencies, provided that the Director, Office of Human Resources Management retains the authority to make final decisions in any human resources matter so redelegated.

* * * * *

26. Revise § 2.93 to read as follows:

§ 2.93 Director, Office of Contracting and Procurement.

(a) Delegations. Pursuant to § 2.24(a)(6) of this chapter, and with due deference for delegations to other Departmental Administration officials, the following delegations of authority are made by the Assistant Secretary for Administration to the Director, Office of Contracting and Procurement:

(1) Exercise full Departmentwide contracting and procurement authority.

(2) Promulgate policies, standards, techniques, and procedures, and represent the Department, in the following:

(i) Acquisition, including, but not limited to, the procurement of supplies, services, equipment, and construction.

(ii) Socioeconomic programs relating to contracting.

(iii) Selection, standardization, and simplification of program delivery processes utilizing contracts.

(iv) Acquisition and leasing of real and personal property.

(v) Implementation of the Uniform Relocation Assistance and Real Property Acquisition Policies Act of 1970 (42 U.S.C. 4601, et seq.).

(vi) Implementation of the policies and procedures set forth in OMB Circular No. A-76, Performance of Commercial Activities.

(3) Exercise the following special authorities:

(i) The Director, Office of Contracting and Procurement, is designated as the Departmental Debarring Officer and authorized to perform the functions of 48 CFR part 9, subpart 9.4 related to procurement activities, except for commodity acquisitions on behalf of the Commodity Credit Corporation (7 CFR part 1407), with authority to redelegate suspension and debarment authority for contracts awarded under the School Lunch and Surplus Removal Programs (42 U.S.C. 1755 and 7 U.S.C. 612c).

(ii) Promulgate regulations for the management of contracting and procurement for information technology and telecommunication equipment, software, services, maintenance and related supplies.

(iii) Represent the Department in working with the Government Accountability Office (GAO), the General Services Administration, OMB, and other organizations or agencies on matters related to assigned responsibilities.

(iv) Conduct liaison with the Office of Federal Register (1 CFR part 16) including the making of required certifications pursuant to 1 CFR part 18.

(4) Exercise authority under the Department's Chief Acquisition Officer (the Assistant Secretary for Administration) to integrate and unify the management process for the Department's major system acquisitions and to monitor implementation of the policies and practices set forth in OMB Circular No. A-109, Major Systems Acquisitions, with the exception that major system acquisitions for information technology shall be under the cognizance of the Chief Information Officer. This delegation includes the authority to:

(i) Ensure that OMB Circular No. A-109 is effectively implemented in the Department and that the management objectives of the Circular are realized.

(ii) Review the program management of each major system acquisition, excluding information technology.

(iii) Designate the program manager for each major system acquisition, excluding information technology.

(iv) Designate any Departmental acquisition, excluding information technology, as a major system acquisition under OMB Circular No. A-109.

(5) Pursuant to Executive Order 12931, “Federal Procurement Reform,” and 41 U.S.C. 1702(c), serve as the Senior Procurement Executive for the Department with responsibility for the following:

(i) Prescribing and publishing Departmental acquisition policies, advisories, regulations, and procedures.

(ii) Taking any necessary actions consistent with policies, regulations, and procedures, with respect to purchases, contracts, leases, agreements, and other transactions.

(iii) Appointing contracting officers.

(iv) Establishing clear lines and limitations of contracting authority through written delegations of authority.

(v) Approving any Departmental and component agency procurement systems and processes.

(vi) Managing and enhancing career development of the Department's acquisition workforce.

(vii) Participating in the development of Governmentwide procurement policies, regulations and standards, and determining specific areas where Governmentwide performance standards should be established and applied.

(viii) Developing unique Departmental standards as required.

(ix) Overseeing the development of procurement goals, guidelines, and innovation.

(x) Measuring and evaluating procurement office performance against stated goals.

(xi) Advising the Assistant Secretary for Administration whether procurement goals are being achieved.

(xii) Prescribing standards for agency Senior Contracting Officials.

(xiii) Redelegating, suspending, or revoking, as appropriate, the authority in paragraph (a)(5)(i) of this section to agency Senior Contracting Officials or other qualified agency officials with no power of further redelegation.

(xiv) Redelegating, suspending, or revoking, as appropriate, the authorities in paragraphs (a)(5)(ii), (iii), (iv), (vi), and (vii) of this section to agency Senior Contracting Officials or other qualified agency officials with the power of further redelegation.

(6) Represent the Department in establishing standards for acquisition transactions within the electronic data interchange environment.

(7) Designate the Departmental Task Order Ombudsman pursuant to 41 U.S.C. 253j.

(8) Serve as Departmental Remedy Coordination Official pursuant to 41 U.S.C. 255 to determine whether payment to any contractor should be reduced or suspended based on substantial evidence that the request of the contractor for advance, partial, or progress payment is based on fraud.

(9) Review and approve exemptions for USDA contracts, subcontracts, grants, agreements, and loans from the requirements of the Clean Air Act, as amended (42 U.S.C. 7401, et seq.), the Federal Water Pollution Control Act, as amended (33 U.S.C. 1251, et seq.), and Executive Order 11738, “Providing for Administration of the Clean Air Act and the Federal Water Pollution Control Act With Respect to Federal Contracts, Grants, or Loans,” 3 CFR, 1971-1975 Comp., p. 799, when he or she determines that the paramount interest of the United States so requires as provided in these acts and Executive Order and the regulations of the EPA (2 CFR 1532.1140).

(10) Issue regulations and directives to implement or supplement the Federal Acquisition Regulations (48 CFR chapter 1 and 4).

(12) Pursuant to the Office of Federal Procurement Policy Act (Act), as amended (41 U.S.C. 401, et seq.), designate the Department's Advocate for Competition with the responsibility for section 20 of the Act (41 U.S.C. 418), including:

(i) Reviewing the procurement activities of the Department.

(ii) Developing new initiatives to increase full and open competition.

(iii) Developing goals and plans and recommending actions to increase competition.

(iv) Challenging conditions unnecessarily restricting competition in the acquisition of supplies and services.

(v) Promoting the acquisition of commercial items.

(vi) Designating an Advocate for Competition for each procuring activity within the Department.

(13) In coordination with the Chief Financial Officer, implement the debarment authorities in section 14211 of the Food, Conservation, and Energy Act of 2008 (7 U.S.C. 2209j), in connection with procurement activities.

(14) Provide services, including procurement of supplies, services, and equipment, with authority to take actions required by law or regulation to perform such services for:

(i) The Secretary of Agriculture.

(ii) The general officers of the Department, except the Inspector General.

(iii) Any other offices or agencies of the Department as may be agreed, including as a Working Capital Fund activity.

(b) [Reserved]

§ 2.94 [Removed and Reserved]

27. Remove and reserve § 2.94.

28. Amend § 2.95 by revising paragraph (b)(1)(vi) and removing and reserving paragraphs (b)(1)(ix) and (xiv) and (b)(2) and (6).

The revision reads as follows:

§ 2.95 Director, Office of Homeland Security.

* * * * *

(b) * * *

(iv) Administer the Classified Network, Controlled Unclassified Information, and Insider Threat programs of the Department (E.O. 13587; E.O. 13556 and 32 CFR part 2002).

* * * * *

29. Amend § 2.97 by adding paragraph (a)(3) to read as follows:

§ 2.97 Director, Office of the Executive Secretariat.

(a) * * *

(3) Administer the Departmental records, forms, reports and directives management programs.

* * * * *

30. Add Subpart V, consisting of §§ 2.700 and 2.701, to read as follows:

Subpart V—Delegations of Authority by the Director, Office of Partnerships and Public Engagement

Sec.
2.700 Director, Office of Advocacy and Outreach.
2.701 Director, Office of Tribal Relations.

§ 2.700 Director, Office of Advocacy and Outreach.

(a) Delegations. Pursuant to § 2.38(a)(1), and with due deference for delegations to other Departmental Administration officials, the following delegations of authority are made by the Director, Office of Partnerships and Public Engagement to the Director, Office of Advocacy and Outreach:

(1) Ensure that small farms and ranches, beginning farmers or ranchers, and socially disadvantaged farmers or ranchers have access to, and equitable participation in, programs and services of the Department pursuant to section 226B(c) of the Department of Agriculture Reorganization Act of 1994 (7 U.S.C. 6934(c)).

(2) Oversee the Advisory Committee for Beginning Farmers and Ranchers.

(3) Oversee the operations of the Office of Small Farms Coordination.

(4) Administer section 2501 of the Food, Agriculture, Conservation, and Trade Act of 1990 (7 U.S.C. 2279), except for authorities related to the Census of Agriculture and economic studies in subsection (h) of that section.

(5) Oversee the Minority Farmer Advisory Committee pursuant to section 14008 of FCEA (7 U.S.C. 2279 note).

(6) Administer the low-income migrant and seasonal farmworker grants program under section 2281 of the Food, Agriculture, Conservation, and Trade Act of 1990 (42 U.S.C. 5177a).

(7) Consult with appropriate entities regarding integration of farmworker interests into Department programs, including assisting farmworkers in becoming agricultural producers or landowners, and research, program improvements, and agricultural education opportunities for low-income and migrant seasonal farmworkers.

(8) Administer the grants program under section 14204 of FCEA (7 U.S.C. 2008q-1) to improve the supply, stability, safety, and training of the agricultural labor force.

(9) Administer and coordinate a USDA outreach program in collaboration with USDA agencies.

(10) Administer section 2501A of the Food, Agriculture, Conservation, and Trade Act of 1990 (7 U.S.C. 2279-1), including the authority to coordinate Department policy for the issuance of receipts under subsection (e) of that section.

(11) Provide strategic planning and performance measurement, coordinate outreach activities, monitor goals and objectives, and evaluate programs, of Department programs and activities involving small farms or ranches and beginning or socially disadvantaged farmers or ranchers.

(12) Administer the USDA/1994 Land Grant Institutions (Tribal Colleges) Programs.

(13) Administer the USDA/1890 Liaison Officer Program.

(14) Administer the Hispanic Serving Institutions National Program, including through the use of cooperative agreements under 7 U.S.C. 3318(b).

(15) Serve as a lead agency in carrying out student internship programs (7 U.S.C. 2279c).

(16) Coordinate outreach to Asian-Americans and Pacific Islanders.

(b) [Reserved]

§ 2.701 Director, Office of Tribal Relations.

(a) Delegations. Pursuant to § 2.38(a)(2), the following delegations of authority are made by the Director, Office of Partnerships and Public Engagement to the Director, Office of Tribal Relations.

(1) Serve as the Department's primary point of contact for tribal issues.

(2) Advise the Secretary on policies related to Indian tribes.

(3) Serve as the official with principal responsibility for the implementation of Executive Order 13175, “Consultation and Coordination with Indian Tribal Governments,” including the provision of Department-wide guidance and oversight regarding tribal consultation, coordination, and collaboration.

(4) Coordinate the Department's programs involving assistance to American Indians and Alaska Natives.

(5) Enter into cooperative agreements to improve the coordination and effectiveness of Federal programs, services, and actions affecting rural areas (7 U.S.C. 2204b(b)(4)); and to provide outreach and technical assistance to socially disadvantaged farmers and ranchers and veteran farmers and ranchers (7 U.S.C. 2279(a)(3)).

(b) [Reserved]

Dated: November 16, 2018.
Sonny Perdue,
Secretary of Agriculture.

[FR Doc. 2018-25443 Filed 11-28-18; 8:45 am]

BILLING CODE 3410-90-P